DEPARTMENT OF THE INTERIOR

Bureau of Land Management

[LLCOS06000.L12200000.DP0000 13X]

Notice of Temporary Closure to Recreational and Target Shooting on Public Lands at Hartman Rocks Recreation Area, CO

AGENCY: Bureau of Land Management, Interior.

ACTION: Notice of Temporary Closure.

SUMMARY: Notice is hereby given that a temporary closure to Recreational Shooting is in effect on public lands administered by the Bureau of Land Management (BLM) Gunnison Field Office.

DATES: The temporary closure will be year-round for a maximum period of two years. This temporary closure will be in effect upon publication in the Federal Register.

FOR FURTHER INFORMATION CONTACT: Brian St. George, Field Manager, BLM Gunnison Field Office, 650 South 11th Street, Gunnison, CO 81230; Telephone, 970-642-4940; Fax, 970-642-4990 during regular business hours 8:00 a.m. to 4:00 p.m. Monday through Friday, except holidays. Persons who use a telecommunications device for the deaf (TDD) may call the Federal Information Relay Service (FIRS) at 1-800-877-8339 to contact the above individual during normal business hours. The FIRS is available 24 hours a day, seven days a week, to leave a message or question with the above individuals. You will receive a reply during normal hours.

SUPPLEMENTARY INFORMATION: This temporary closure to recreational shooting affects public lands at Hartman Rocks Recreation Area in Gunnison County, Colorado. The legal description of the affected public lands is NMPM, T. 49 N., R. 1 W., portions of sections 9, 15 to 17, 20 to 23, 26 to 28, and 34 to 35.

The temporary closure is necessary to protect persons, property and public lands. The area of the closure includes approximately 4,363 acres on the north side of Hartman Rocks in Gunnison County, Colorado. The area is unsafe for target shooting due to its proximity to a number of roads and trails, and a high concentration of other recreationists. The BLM is temporarily closing this area of Hartman Rocks with the highest density of recreation use to recreational and target shooting until the Gunnison Resource Area Resource Management Plan (1993) is amended.

This Temporary Closure will protect the public, property and public lands for a period not to exceed two years until shooting issues are fully analyzed and considered in an RMP amendment.

Hunting will continue to be allowed within the temporary closure area. Recreational and target shooting will still be allowed in other areas managed by the BLM Gunnison Field Office not affected by this closure (an area in excess of 600,000 acres).

The BLM will post closure signs at main entry points to this area. This temporary closure order will be posted in the Gunnison Field Office. Maps of the affected area and other documents associated with this temporary closure are available at the BLM Gunnison Field Office (see ADDRESSES above).

Under the authority of Section 303(a) of the Federal Land Policy and Management Act of 1976 (43 U.S.C. 1733[a]), 43 CFR 8360.0-7 and 43 CFR 8364.1, the BLM will enforce the following rule(s) within Hartman Rocks Recreation Area:

Recreational shooting and target practice are prohibited within the portion of Hartman Rocks Recreation Area bounded on the west by portions of BLM roads 3500, 3555, 3560, and 3565; and on the south by the remaining portion of powerline road 3550 to Gold Basin Road (Gunnison County Road 38). All public lands north and east of the aforementioned roads within Hartman Rocks Recreation Area will be temporarily closed to recreational and target shooting. This temporary closure order does not apply to hunting under the laws and regulations of the State of Colorado.

The following persons are exempt from this order: Federal, state, and local officers and employees in the performance of their official duties; members of organized rescue or fire-fighting forces in the performance of their official duties; persons with a current legal Colorado hunting license in his/her possession and hunting in accordance with state law; and persons with written authorization from the BLM.

Any person who violates the above rule(s) and/or restriction(s) may be tried before a United States Magistrate and fined no more than $1,000, imprisoned for no more than 12 months, or both. Such violations may also be subject to the enhanced fines provided for by 18 U.S.C. 3571.

Authority: 43 CFR 8364.1.

John Mehlhoff,
BLM Colorado Acting State Director.

[FR Doc. 2013-27848 Filed 11-19-13; 8:45 am]

BILLING CODE 4310-JB-P